DEPARTMENT OF EDUCATION

[Docket ID ED-2022-OPEPD-0082]

Request for Information Regarding Higher Education Act (HEA) Pooled Evaluation

AGENCY: Office of Planning, Evaluation and Policy Development, Department of Education.

ACTION: Request for information.

SUMMARY: The U.S. Department of Education (Department) is requesting information in the form of written comments that may include information, research, and suggestions regarding the Department's implementation of the new authority provided to the Department in the Consolidated Appropriations Act, 2022, to reserve funding from certain programs authorized by the Higher Education Act of 1965, as amended (HEA), for the purpose of carrying out rigorous and independent evaluations and conducting data collection and analysis of such programs. The Office of Planning, Evaluation and Policy Development (OPEPD) solicits these comments to identify potential evaluation, data collection, and analysis activities that could be undertaken with these funds that would increase knowledge about, and improve administration of, programs authorized under the HEA, and build evidence of effective practices to improve student outcomes in these programs. To use and build evidence to support opportunities for students, the Department is particularly interested in evaluation, data collection, and analysis activities that can inform efforts to make higher education more inclusive and affordable and ensure pathways through higher education lead to successful careers. The Department is particularly interested in activities aligned to Administration priorities including but not limited to strengthening community college capacity; holistic student supports; promoting postsecondary retention and completion; and strengthening alignment across institutions of higher education, K-12, and the public workforce system.

DATES: We must receive your comments on or before February 17, 2023.

ADDRESSES: Comments must be submitted via the Federal eRulemaking Portal at regulations.gov. However, if you require an accommodation or cannot otherwise submit your comments via regulations.gov, please contact the program contact person listed under FOR FURTHER INFORMATION CONTACT.

The Department strongly encourages you to submit any comments or attachments in Microsoft Word format. If you must submit a comment in Adobe Portable Document Format (PDF), the Department strongly encourages you to convert the PDF to “print-to-PDF” format, or to use some other commonly used searchable text format. Please do not submit the PDF in a scanned format. Using a print-to-PDF format allows the Department to electronically search and copy certain portions of your submissions to assist in the rulemaking process.

Federal eRulemaking Portal: Go to www.regulations.gov to submit your comments electronically. Information on using Regulations.gov, including instructions for accessing agency documents, submitting comments, and viewing the docket, is available on the site under “FAQ.”

Privacy Note: The Department's policy is to make all comments received from members of the public available for public viewing in their entirety on the Federal eRulemaking Portal at www.regulations.gov. Therefore, commenters should include in their comments only information about themselves that they wish to make publicly available. Commenters should not include in their comments any information that identifies other individuals or that permits readers to identify other individuals.

This is a request for information (RFI) only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

FOR FURTHER INFORMATION CONTACT: John English, U.S. Department of Education, 400 Maryland Avenue SW Room 6W306, Washington, DC 20202. Telephone: (202) 260-5787. Email: john.english@ed.gov.

If you are deaf, hard of hearing, or have a speech disability and wish to access telecommunications relay services, please dial 7-1-1.

SUPPLEMENTARY INFORMATION:

I. Background

The Department administers dozens of programs authorized by the HEA. These programs include (but are not limited to): the Student Financial Assistance Programs, including the William D. Ford Federal Direct Loan Program, the Federal Pell Grant Program, the Teacher Education Assistance for College and Higher Education (TEACH) Grant Program, the Federal Work-Study Program (FWS), and the Supplemental Educational Grant Program (FSEOG), administered by Federal Student Aid (FSA); the Student Service programs administered by the Office of Postsecondary Education (OPE), including the Federal TRIO Programs, Gaining Early Awareness and Readiness for Undergraduate Programs (GEAR UP), Graduate Assistance in Areas of National Need (GAANN), and Child Care Access Means Parents in Schools (CCAMPIS); the Institutional Service programs administered by OPE that are designed to increase capacity of Historically Black Colleges and Universities (HBCUs), Tribal Colleges and Universities (TCUs) and other Minority-Serving institutions (MSIs) to provide high-quality education to more students; the various special focus competitions supported under the Fund for the Improvement of Postsecondary Education and administered by OPE; the International and Foreign Language Education Domestic Programs; and the Special Programs for Migrant Students and Teacher Quality Partnerships Programs administered by the Office of Elementary and Secondary Education.

As reflected in the Department's Strategic Plan and Learning Agenda (available at https://evaluation.gov), high-quality evaluation, data collection, and analysis are important priorities. They are key to the Department's administration of programs and essential to Congress's and the public's understanding of these programs. In addition, high-quality program evaluation can help identify effective strategies that can be disseminated and scaled more broadly. Very few HEA-authorized programs allow the Department to use program funding for evaluation, technical assistance, or data collection and analysis, resulting in missed opportunities for the Department to be able to increase knowledge of effective practices in higher education.

The Consolidated Appropriations Act, 2022 (Pub. L. 117-103), includes a new HEA Pooled Evaluation authority that authorizes the Secretary to reserve up to 0.5 percent from the appropriation for any HEA-authorized program—excluding the Pell Grant Program and Student Aid Administration—for the purpose of carrying out rigorous and independent evaluations and to collect and analyze outcome data for any program authorized by the HEA. Fiscal year (FY) 2022 funding that is reserved for HEA Pooled Evaluation is available for obligation through September 30, 2024. To date, the Department has reserved $6,904,996 under the HEA Pooled Evaluation authority. The Department must report to the House and Senate Appropriations and Authorizing Committees on the activities to be carried out under this authority, as well as the funding used and the impact on grantees, 30 days prior to obligation of funds. This authority was requested in the President's Budget in previous years but was included in the Department's appropriations legislation for the first time in FY 2022. The Administration has requested the authority again in the FY 2023 President's Budget request and hopes Congress continues to include this authority in future appropriations. The Department will contemplate comments received from this RFI when planning to use future funding it may receive from future appropriations under this authority.

The Department is committed to using this authority in a way that minimizes the impact on our grantees and students while also allocating funding to the highest priority evaluation, data collection, and analysis activities. To ensure that we harness the enormous potential of this new authority, we are, through this RFI, requesting information from the public on ideas for how best to use these funds. Our hope is to identify and consider the widest possible range of ideas. Note that we see this as a long-term effort; as such, ideas for evaluation, data collection, and analysis that are not funded initially may continue to be considered, pending the reservation of funds and whether this authority is retained in future Department appropriations acts.

When submitting ideas for potential uses of HEA Pooled Evaluation funding, please note that funding must be used in connection with evaluation, data collection, and analysis of an HEA-authorized program, including the student financial aid programs. When responding to this RFI, please address one or more of the following questions related to your proposed activity:

1. What is the goal of this evaluation, or data collection, and analysis activity? How would this activity build evidence that supports strategies that promote student success, make education more inclusive and affordable, and ensure pathways through higher education lead to successful careers?

2. What specific research question or questions is this evaluation, data collection, and analysis activity designed to answer?

3. How would the proposed activity help evaluate, or otherwise provide important information on, an HEA program or programs?

4. If the activity proposed is an evaluation, are you aware of other evaluations on this topic? If so, please identify the relevant evaluations.

5. Does the proposed activity involve new data collection and analysis or the analysis of existing data?

6. Are there any additional benefits of conducting this activity that have not been previously identified?

We will review every comment, and the comments in response to this RFI will be publicly available on the Federal eRulemaking Portal at www.regulations.gov. Please note that the Department will not directly respond to comments.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Consolidated Appropriations Act, 2022.

Roberto Rodriguez,
Assistant Secretary, Office of Planning, Evaluation, and Policy Development.

[FR Doc. 2022-27474 Filed 12-16-22; 8:45 am]

BILLING CODE 4000-01-P